DEPARTMENT OF HEALTH AND HUMAN SERVICES

National Institutes of Health

Center for Scientific Review; Amended Notice of Meeting

Notice is hereby given of a change in the meeting of the Reproductive Biology Study Section, February 26, 2001, 8:30 am to February 27, 2001, 5:00 pm, Double Tree Hotel, 1750 Rockville Pike, Rockville, MD 20852 which was published in the Federal Register on February 13, 2001, 66 FR 10031-10034.

The meeting will be held at the Hyatt Regency Hotel in Bethesda. The dates and time remain the same. The meeting is closed to the public.

Dated: February 16, 2001.
LaVerne Y. Stringfield,
Director, Office of Federal Advisory Committee Policy.

[FR Doc. 01-4450 Filed 2-22-01; 8:45 am]

BILLING CODE 4140-01-M